DEPARTMENT OF COMMERCE

International Trade Administration

[A-570-905]

Notice of Correction to the First Administrative Review of Certain Polyester Staple Fiber From the People's Republic of China: Final Results of Antidumping Duty Administrative Review

AGENCY: Import Administration, International Trade Administration, Department of Commerce.

ACTION: Correction to assessment rate section and separate rate company name.

SUMMARY: On January 11, 2010, the Department of Commerce (“Department”) published the final results of the administrative review of the antidumping duty order on certain polyester staple fiber from the People's Republic of China (“PRC”). See First Administrative Review of Certain Polyester Staple Fiber From the People's Republic of China: Final Results of Antidumping Duty Administrative Review, 75 FR 1336 (January 11, 2010) (“Final Results”).

FOR FURTHER INFORMATION CONTACT: Emeka Chukwudebe, AD/CVD Operations, Office 9, Import Administration, International Trade Administration, U.S. Department of Commerce, 14th Street and Constitution Avenue, NW, Washington, DC 20230; telephone: (202) 482-0219.

In response to comments received from respondents,¹ the Department hereby clarifies two areas of the Final Results. The Department inadvertently stated in the assessment rate section that we will instruct CBP to liquidate entries for all companies at the company specific rate required at the time of entry. The Department hereby clarifies that we will instruct CBP to liquidate entries at the company-specific rate set forth in the Final Results. Additionally, in the Final Results, the Department omitted the full name of the separate rate company, Far Eastern Industries, Ltd., (Shanghai) and Far Eastern Polychem Industries and only listed Far Eastern Polychem Industries. The Department hereby corrects the Final Notice to state Far Eastern Industries, Ltd., (Shanghai) and Far Eastern Polychem Industries. The Final Results remains in effect in all other respects.

¹ Ningbo Dafa Chemical Fiber Co., Ltd., and Cixi Santai Chemical Fiber Co., Ltd.

Dated: January 28, 2010.
Ronald K. Lorentzen,
Deputy Assistant Secretary for Import Administration.

[FR Doc. 2010-2317 Filed 2-3-10; 8:45 am]

BILLING CODE 3510-DS-S